DEPARTMENT OF HOMELAND SECURITY

U.S. Customs and Border Protection

[Docket No. USCBP-2025-0013]

Receipt of Domestic Interested Party Petition Concerning the Tariff Classification of Cane Sugar Molasses and Liquid Sugar

AGENCY: U.S. Customs and Border Protection, Department of Homeland Security.

ACTION: Notice of receipt of domestic interested party petition; solicitation of comments.

SUMMARY: U.S. Customs and Border Protection (CBP) has received a petition submitted on behalf of a domestic interested party requesting the reclassification, under the Harmonized Tariff Schedule of the United States (HTSUS), of certain cane sugar molasses and liquid sugar. CBP currently classifies the subject cane sugar molasses under subheading 1703.10.30, HTSUS, as molasses, and the liquid sugar under subheading 1702.90.40, HTSUS. Petitioner contends that the proper classification for the subject cane sugar molasses and liquid sugar is under subheading 1702.90.10, HTSUS, or subheading 1702.90.20, HTSUS, as “sugar syrups.” This document invites comments regarding the correctness of the current classification.

DATES: Comments must be received on or before June 23, 2025.

ADDRESSES: Please submit comments, identified by docket number, by the following method:

• Federal eRulemaking Portal: https://www.regulations.gov. Follow the instructions for submitting comments via docket number USCBP-2025-0013.

Instructions: All submissions received must include the agency name and docket number for this notice of domestic interested party petition concerning the tariff classification of cane sugar molasses and liquid sugar. All comments received will be posted without change to https://www.regulations.gov, including any personal information provided.

Docket: For access to the docket to read background documents, exhibits, or comments received, go to https://www.regulations.gov.

FOR FURTHER INFORMATION CONTACT: Marie Durane, Food, Textiles and Marking Branch, Regulations and Rulings, Office of Trade, U.S. Customs and Border Protection, at (202) 325-0984 or by email at marie.durane@cbp.dhs.gov.

SUPPLEMENTARY INFORMATION:

Background

A petition was filed under section 516 of the Tariff Act of 1930, as amended (19 U.S.C. 1516), on behalf of the American Sugar Coalition (Petitioner or ASC) and its members. ASC is a national coalition that consists of sugar beet and sugar cane farmers, sugar cane millers, sugar beet processors, and sugar cane refiners, either through their membership in various trade associations, or in their individual capacity. Members of the ASC individually manufacture, produce, or wholesale raw and refined sugar in the United States, and Petitioner represents that they produce over 95 percent of all raw and refined sugar in the United States. ASC meets all the requirements of a domestic interested party set forth in 19 U.S.C. 1516(a)(2) and section 175.3(a) in title 19 of the Code of Federal Regulations (19 CFR 175.3(a)).

In New York Ruling Letter (NY) N309706 (March 10, 2020), CBP classified the product described as refiner's molasses in subheading 1703.10.3000, Harmonized Tariff Schedule of the United States Annotated (HTSUSA),¹ which provides for “Molasses resulting from the extraction or refining of sugar: Cane Molasses: Imported for (a) the commercial extraction of sugar or (b) human consumption.” In NY N324972 (June 24, 2022), CBP classified liquid sugar in subheading 1702.90.4000, HTSUSA, which provides for “Other sugars, including chemically pure lactose, maltose, glucose and fructose, in solid form; sugar syrups not containing added flavoring or coloring matter; artificial honey, whether or not mixed with natural honey; caramel: Other, including invert sugar and other sugar and sugar syrup blends containing in the dry state 50 percent by weight of fructose: Derived from sugar cane or sugar beets: Other: Other.”

¹ Please note that when referencing a heading or subheading up to the 8-digit level of the Harmonized Tariff Schedule of the United States, CBP cites to the Harmonized Tariff Schedule of the United States or “HTSUS.” When referencing a 10-digit subheading level of the Harmonized Tariff Schedule of the United States, CBP cites to the Harmonized Tariff Schedule of the United States Annotated or “HTSUSA,” which is used for statistical reporting purposes.

Petitioner contends that the refiner's molasses and liquid sugar, which were the subject of the two rulings, and the cane sugar molasses that is currently being imported at the Port of Buffalo are classified in subheading 1702.90.1000, HTSUSA, which provides for “Other sugars, including chemically pure lactose, maltose, glucose and fructose, in solid form; sugar syrups not containing added flavoring or coloring matter; artificial honey, whether or not mixed with natural honey; caramel: Other, including invert sugar and other sugar and sugar syrup blends containing in the dry state 50 percent by weight of fructose: Derived from sugar cane or sugar beets: Containing soluble non-sugar solids (excluding any foreign substances, including but not limited to molasses, that may have been added to or developed in the product) equal to 6 percent or less by weight of the total soluble solids: Described in additional U.S. note 5 to this Chapter and entered pursuant to its provisions,” or in subheading 1702.90.2000, HTSUSA, if not described in additional U.S. Note 5 to Chapter 17, HTSUS, and not entered pursuant to its provisions.

Applicable Legal Principles

Classification under the HTSUS is determined in accordance with the General Rules of Interpretation (GRIs) and, in the absence of special language or context which otherwise requires, by the Additional U.S. Rules of Interpretation (ARIs). GRI 1 provides that the classification of goods shall be determined according to the terms of the headings and any relative section or chapter notes. In the event that the goods cannot be classified solely on the basis of GRI 1, and if the headings and legal notes do not otherwise require, GRIs 2 through 6 may be applied in order.

Additional U.S. Note (AUSN) 10 to Chapter 17, HTSUS, provides that “Heading 1703 does not include products derived from sugar cane or sugar beet and containing soluble non-sugar solids (excluding any foreign substance that may have been added or developed in the product) equal to 6 percent or less by weight of the total soluble solids.”

The Explanatory Notes (ENs) to the Harmonized Commodity Description and Coding System represent the official interpretation of the tariff at the international level. While neither legally binding nor dispositive, the ENs provide a commentary on the scope of each heading of the HTSUS and are generally indicative of the proper interpretation of these headings. See Treasury Decision (T.D.) 89-80, 54 FR 35127, 35128 (August 23, 1989). The ENs for heading 17.02, state, in pertinent part, that the heading also covers “sugar syrups” which include “juices and syrups obtained during the extraction of sugars from sugar beet, sugar cane, etc.” Moreover, the ENs for heading 17.03, state, the following:

Molasses of this heading is obtained only as a result of the extraction or refining of sugar. It is most commonly obtained as a normal by-product resulting from the extraction or refining of beet or cane sugar or from the production of fructose from maize (corn). It is a brown or blackish viscous substance containing an appreciable amount of sugar which cannot readily be crystallised. However, it may be powdered.

Beet sugar molasses is not normally eaten as such, but certain refined forms of sugar cane molasses and corn molasses are suitable for human consumption and are sold as treacle or as table syrups. The main uses of molasses are as the raw material from which alcohols and alcoholic beverages are distilled (e.g., rum from sugar cane molasses), in the preparation of cattle foods and coffee substitutes. It is also sometimes used for the extraction of sugar.

Molasses of this heading may be decolourised, coloured or flavoured.

Elaboration of the Petitioner's Views

Petitioner contends that the proper classification for the subject cane sugar molasses and liquid sugar is in subheading 1702.90.1000, HTSUSA, which provides for “Other sugars, including chemically pure lactose, maltose, glucose and fructose, in solid form; sugar syrups not containing added flavoring or coloring matter; artificial honey, whether or not mixed with natural honey; caramel: Other, including invert sugar and other sugar and sugar syrup blends containing in the dry state 50 percent by weight of fructose: Derived from sugar cane or sugar beets: Containing soluble non-sugar solids (excluding any foreign substances, including but not limited to molasses, that may have been added to or developed in the product) equal to 6 percent or less by weight of the total soluble solids: Described in additional U.S. note 5 to this Chapter and entered pursuant to its provisions,” or in subheading 1702.90.2000, HTSUSA, if not described in additional U.S. Note 5 to Chapter 17, HTSUS, and not entered pursuant to its provisions, and therefore are appropriately classified as “sugar syrups” under subheading 1702.90.1000, HTSUSA, or subheading 1702.90.2000, HTSUSA, pursuant to GRI 1.

Petitioner argues that the liquid sugar product in NY N324972, the refiner's molasses in NY N309706, and the cane sugar molasses that is currently being imported at the Port of Buffalo are cane sugar run-off syrup and not molasses as described in heading 1703, HTSUS. Specifically, Petitioner argues that the products do not meet the requirements of AUSN 10 to Chapter 17, HTSUS, and the requirements in the ENs to heading 1703, HTSUS. In addition, with respect to NY N324972, Petitioner argues that the ruling lacks details regarding the product's soluble non-sugar solid content, and whether or not any foreign substances were added during the manufacturing process and, as a result, the ruling should be reconsidered.

Based on these factors, Petitioner urges CBP to find that the subject cane sugar molasses and liquid sugar are “sugar syrups.” It is Petitioner's view that the products are cane sugar run-off syrups that do not contain over six percent soluble non-sugar solids, unless a refinery is deliberately adding a foreign substance during the manufacturing process or deliberately causing a foreign substance to be developed in the product by adjusting its refining process to operate in a manner that is not commercially or economically reasonable. Moreover, Petitioner argues that the products do not have the physical and chemical characteristics of molasses. In support of its argument, Petitioner relies on the industry standard production process for molasses, the dictionary definitions of molasses and the ordinary meaning of molasses in the trade, and the legislative history of the tariff provisions covering sugar and molasses.

Analysis Used by CBP in Prior Rulings

Subheading 1703.10.3000, HTSUSA, provides for “Molasses resulting from the extraction or refining of sugar: Cane Molasses: Imported for (a) the commercial extraction of sugar or (b) human consumption.” Heading 1703, HTSUS, applies to molasses “resulting from the extraction or refining of sugar.” The ENs to heading 17.03 HTSUS, state, in pertinent part, that, “Molasses of this heading is obtained only as a result of the extraction or refining of sugar. It is most commonly obtained as a normal by-product resulting from the extraction or refining of beet or cane sugar or from the production of fructose from maize (corn).” AUSN 10 to Chapter 17, HTSUS, specifies that the type of molasses covered by heading 1703, HTSUS, includes “products derived from sugar cane or sugar beet and containing soluble nonsugar solids (excluding any foreign substance that may have been added or developed in the product) equal to 6 percent or less by weight of the total soluble solids.” In NY N309706, the subject refiner's molasses is refined from Brazilian raw cane sugar. The ruling provides that, “[t]he raw cane sugar is melted, purified, crystallized, mixed with partially recovered sugar, and the residual is removed.” The refiner's molasses is said to have a total sugar content of 64.4 percent composed of 2.1 percent fructose, 2.3 glucose, and 60 percent sucrose. The refiner's molasses in NY N309706 is classified per GRIs 1 and 6 as molasses in subheading 1703.10.3000, HTSUSA, because it meets the terms of AUSN 10 to Chapter 17, HTSUS, and the ENs to heading 17.03, HTSUS.

Subheading 1702.90.4000, HTSUSA, provides for “Other sugars, including chemically pure lactose, maltose, glucose and fructose, in solid form; sugar syrups not containing added flavoring or coloring matter; artificial honey, whether or not mixed with natural honey; caramel: Other, including invert sugar and other sugar and sugar syrup blends containing in the dry state 50 percent by weight of fructose: Derived from sugar cane or sugar beets: Other: Other.” The ENs to heading 17.02, HTSUS, provide for sugar syrups, and include “juices and sugars” obtained during the extraction of sugars from sugar beet, sugar cane, etc. In NY N324972, the liquid sugar contains 66.7 percent sugar, 33.3 percent water and trace amounts of calcium hydroxide. The liquid sugar is made from raw cane sugar from Brazil that is granulated, diluted with water, heated, filtered, and packed. The liquid sugar in NY N324972 is classified under subheading 1702.90.4000, HTSUSA, pursuant to GRIs 1 and 6, because the product is liquid sugar made from the extraction of sugars in sugar cane.

Comments

Pursuant to 19 CFR 175.21, before making a determination on this matter, CBP invites written comments on the petition, from interested parties.

The domestic interested party petition concerning the tariff classification of cane sugar molasses and liquid sugar, as well as all comments received in response to this notice, will be available for public inspection on the docket at https://www.regulations.gov.

Authority

This notice is published in accordance with 19 U.S.C. 1516 and 19 CFR 175.21.

Pete Flores, Acting Commissioner, having reviewed and approved this document, has delegated the authority to electronically sign the document to the Director (or Acting Director, if applicable) of the Regulations and Disclosure Law Division of CBP, for purposes of publication in the Federal Register.

Robert F. Altneu,
Director, Regulations & Disclosure Law Division, Regulations & Rulings, Office of Trade, U.S. Customs and Border Protection.

[FR Doc. 2025-07021 Filed 4-22-25; 8:45 am]

BILLING CODE 9111-14-P